DEPARTMENT OF HOUSING AND URBAN DEVELOPMENT

[Docket No. FR-4739-N-41]

Notice of Submission of Proposed Information Collection to OMB; Emergency Comment Request; Inventory of Housing Units Designated for Elderly/Disabled Persons; Notice of Proposed Information Collection for Public Comment

AGENCY: Office of the Assistant Secretary for Housing—Federal Housing Commissioner, HUD.

ACTION: Notice.

SUMMARY: The proposed information collection requirement described below has been submitted to the Office of Management and Budget (OMB) for emergency review and approval, as required by the Paperwork Reduction Act. The Department is soliciting public comments on the subject proposal.

DATES: Comments Due Date: September 10, 2002.

ADDRESSES: Interested persons are invited to submit comments regarding this proposal. Comments must be received within seven (7) days from the date of this Notice. Comments should refer to the proposal by name/or OMB approval number (2502—pending) and should be sent to: Lauren Wittenberg, HUD Desk Officer, Office of Management and Budget, New Executive Office Building, Washington, DC 20503; Fax number (202) 395-6974; E-mailLauren_Wittenberg@omb.eop.gov.

FOR FURTHER INFORMATION CONTACT: Wayne Eddins, Reports Management Officer, Department of Housing and Urban Development, 451 Seventh Street, SW., Washington, DC 20410; e-mailWayne_Eddins@HUD.gov; telephone (202) 708-2374. This is not a toll-free number. Copies of available documents submitted to OMB may be obtained from Mr. Eddins.

SUPPLEMENTARY INFORMATION: This Notice informs the public that the Department of Housing and Urban Development (HUD) has submitted to OMB, for emergency processing, an information collection package to obtain current data from owners of multifamily housing projects regarding preferences for occupancy by the elderly persons and persons with disabilities, unit distribution, and units with accessible features. This information is necessary for Departmental compliance with the 2000 House Committee on Appropriations Report #106-286. The information obtained through this inventory will be published on HUD's Web site for public access and will assist prospective applicants with locating units for which they are eligible.

This Notice is soliciting comments form members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Inventory of Housing Units Designated for Elderly/Disabled Persons.

Description of Proposed Information Collection: The information obtained through this survey will be published on HUD's Web site for public access and will assist prospective elderly/disabled applicants to locate housing units for which they are eligible.

OMB Control Number: To be assigned.

Agency Form Numbers: HUD-90059.

Members of Affected Public: Individuals or households/owners of multifamily housing projects.

Estimation of the total numbers of hours needed to prepare the information collection including number of respondents, frequency of responses, and hours of response. The estimated number of annual hours required for this information collection is 1,500; the estimated number of respondents is 3,000; the frequency of responses is 1; and the estimated time to gather the necessary documents and complete the form is about 30 minutes per submission.

Authority: The Paperwork Reduction Act of 1995, 44 U.S.C. Chapter 35, as amended.

Dated: August 27, 2002.
Wayne Eddins,
Departmental Reports Management Officer,Office of the Chief Information Officer.

[FR Doc. 02-22329 Filed 8-30-02; 8:45 am]

BILLING CODE 4210-27-M